DEPARTMENT OF ENERGY

Federal Energy Regulatory Commission

Combined Notice of Filings #1

Take notice that the Commission received the following electric rate filings:

Docket Numbers: ER14-2952-005.

Applicants: Midcontinent Independent System Operator, Inc.

Description: Report Filing: 2016-06-14_SSR Cost Allocation Refund Report to be effective N/A.

Filed Date: 6/14/16.

Accession Number: 20160614-5037.

Comments Due: 5 p.m. ET 7/5/16.

Docket Numbers: ER15-767-002.

Applicants: Midcontinent Independent System Operator, Inc.

Description: Report Filing: 2016-06-14_White Pine 2 Refund Report to be effective N/A.

Filed Date: 6/14/16.

Accession Number: 20160614-5047.

Comments Due: 5 p.m. ET 7/5/16.

Docket Numbers: ER16-628-002.

Applicants: Florida Power & Light Company.

Description: Compliance filing: Florida Power & Light Company Market-Based Rate Tariff Compliance Filing to be effective 5/21/2016.

Filed Date: 6/14/16.

Accession Number: 20160614-5114.

Comments Due: 5 p.m. ET 7/5/16.

Docket Numbers: ER16-1920-000.

Applicants: Tucson Electric Power Company.

Description: § 205(d) Rate Filing: Revised Interconnection Agreement and Transmission Service Agreement to be effective 8/15/2016.

Filed Date: 6/14/16.

Accession Number: 20160614-5066.

Comments Due: 5 p.m. ET 7/5/16.

Docket Numbers: ER16-1921-000.

Applicants: New England Power Company.

Description: Notice of Cancellation of Prior Service Agreement of New England Power Company.

Filed Date: 6/14/16.

Accession Number: 20160614-5126.

Comments Due: 5 p.m. ET 7/5/16.

Docket Numbers: ER16-1922-000.

Applicants: Midcontinent Independent System Operator, Inc.

Description: Compliance filing: 2016-06-14_Tariff revisions for Market Participant Funded Projects (MPFPs) to be effective 8/6/2015.

Filed Date: 6/14/16.

Accession Number: 20160614-5138.

Comments Due: 5 p.m. ET 7/5/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2016.
Nathaniel J. Davis, Sr.,
Deputy Secretary.

[FR Doc. 2016-14517 Filed 6-17-16; 8:45 am]

BILLING CODE 6717-01-P